DEPARTMENT OF THE INTERIOR

Geological Survey

[GX18DK00GUF0200]

Notice of Renewal of the Advisory Committee on Water Information

AGENCY: United States Geological Survey.

ACTION: Notice of renewal of the Advisory Committee on Water Information Charter.

Following consultation with the General Services Administration, notice is hereby given that the Secretary of the Interior is renewing the Advisory Committee on Water Information (ACWI).

The ACWI has been established under the authority of the Office of Management and Budget and Budget Memorandum No. M-92-01 and the Federal Advisory Committee Act. The purpose of this Presidential Committee is to represent the interests of water-information users and professionals in advising the Federal Government on Federal water-information programs and their effectiveness in meeting the Nation's water-information needs. Member organizations help to foster communications between the Federal and non-Federal sectors on sharing water information.

Membership represents a wide range of water resources interests and functions. Representation on the ACWI includes all levels of government, academia, private industry, and professional and technical societies. Member organizations designate their representatives and alternates. Membership is limited to a maximum of 35 organizations.

The Committee will function solely as an advisory body, and in compliance with the provisions of the Federal Advisory Committee Act. The Charter will be filed under the Act, 15 days from the date of publication of this notice.

FOR FURTHER INFORMATION CONTACT: Ms. Adrienne Bartlewitz, Acting ACWI Executive Secretary, U.S. Geological Survey, 12201 Sunrise Valley Drive, MS 436, Reston, VA 20192. Telephone: 703-648-4304; Fax: 703-648-5002.

Dated: June 29, 2018.
Ryan Zinke,
Secretary of the Interior.

[FR Doc. 2018-17331 Filed 8-10-18; 8:45 am]

BILLING CODE 4338-11-P